DEPARTMENT OF HEALTH AND HUMAN SERVICES

National Institutes of Health

Submission for OMB Review; 30-Day Comment Request Revision to Identifying Experts in Prevention Science Methods To Include on NIH Review Panels, Office of Disease Prevention (NIH ODP)

AGENCY: National Institutes of Health, HHS.

ACTION: Notice.

SUMMARY: In compliance with the Paperwork Reduction Act of 1995, the National Institutes of Health (NIH) has submitted to the Office of Management and Budget (OMB) a request for review and approval of the information collection listed below. This proposed information collection was previously published in the Federal Register on July 6, 2017, page 31337 (82 FR 31337) and allowed 60 days for public comment. No public comments were received. The purpose of this notice is to allow an additional 30 days for public comment.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attn: Desk Officer for NIH.

FOR FURTHER INFORMATION CONTACT: To request more information on the proposed project or to obtain a copy of the data collection plans and instruments, contact: Dr. Ranell Myles, Public Health Analyst, NIH Office of Disease Prevention, 6100 Executive Blvd., Room 2B03, Bethesda, MD 20892 or call (301) 827-5579 or email your request, including your address to prevention@mail.nih.gov.

SUPPLEMENTARY INFORMATION: The Office of Disease Prevention, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Identifying Experts in Prevention Science Methods to Include on NIH Review Panels,—REVISION, Office of Disease Prevention (ODP), National Institutes of Health (NIH) (OMB# 0925-0728, Expiration date 12/31/2018)

Need and Use of Information Collection: The Office of Disease Prevention (ODP) is the lead Office at the National Institutes of Health (NIH) responsible for assessing, facilitating, and stimulating research in disease prevention and health promotion, and disseminating the results of this research to improve public health. Prevention is preferable to treatment, and research on disease prevention is an important part of the NIH's mission. The knowledge gained from this research leads to stronger clinical practice, health policy, and community health programs. ODP collaborates with the NIH, other Department of Health and Human Services (DHHS) agencies, and other public and private partners to achieve the Office's mission and goals. One of our priorities is to promote the use of the best available methods in prevention research and support the development of better methods. One of our strategies is to help the Center for Scientific Review (CSR) identify experts in prevention science methods to include on their review panels. This will strengthen the panels and improve the quality of the prevention research supported by the NIH. To identify experts in prevention science methods, we worked with our contractor, IQ Solutions, Inc., to develop online software which will allow us to collect scientists' names, contact information, and resumes, as well as to have those scientists identify their level of expertise in a variety of prevention science methods and content areas. The information collected with this software was used to create a web-based tool that CSR staff can use to identify scientists with expertise in specific prevention science methods and content areas for invitation to serve on one of the CSR review panels. This system will also be shared with review staff in the other Institutes and Centers at the NIH, as well as other DHHS agencies, to use in the same way. Given our plans to create an automated system for reviewer information collection, we are now seeking OMB approval for an extension and the addition of more questions.

This PRA clearance request is for the collection of additional data not collected in the previously deployed online software and survey including additional study design topics, research methods topics, content topics, as well as the geographic region of research, and the income category of the region/country in which the research is performed. The request also includes asking researchers who have already completed previous versions of the survey to update their information based on the revised additional topics.

OMB revision approval is requested for 3 years. There are no costs to respondents other than their time. The total estimated annualized burden hours are 1,550.

Estimated Annualized Burden Hours
Type of respondents | Number of respondents | Number of responses per respondent | Average burden per response (in hours) | Total annual burden hours
Investigators | 3,120 | 1 | 25/60 | 1,300
Returning Investigators to update information | 1,000 | 1 | 15/60 | 250
Total | 4,120 | 4,120 |  | 1,550

Dated: September 24, 2017.
Lawrence A. Tabak,
Principal Deputy Director, National Institutes of Health.

[FR Doc. 2017-20885 Filed 9-28-17; 8:45 am]

BILLING CODE 4140-01-P